DEPARTMENT OF AGRICULTURE

Submission for OMB Review; Comment Request

June 5, 2006.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Pamela_Beverly_OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Agricultural Marketing Service

Title: Customer Service Survey (Meat Grading and Certification Services)

OMB Control Number: 0581-0193.

Summary of Collection: The Agricultural Marketing Act of 19946 authorizes the Secretary of Agriculture to provide consumers with voluntary Federal meat grading and certification services that facilitate the marketing of meat and meat products. These services are provided under the authority of 7 CFR part 54—Meats, Prepared Meats, and Meat Products (Grading, Certification, and Standards). The customer service survey is used to gather information from its customers to determine the quality of service provided. Once an applicant request services, there is no way to determine the quality of service that is provided.

Need and Use of the Information: Agricultural Marketing Service will collect information to evaluate services and assist in planning and managing the program. The information from the survey is strictly voluntary and will be used to continually improve the services.

Description of Respondents: Business or other-for-profit.

Number of Respondents: 12.

Frequency of Responses: Reporting: On occasion.

Total Burden Hours: 1.

Agricultural Marketing Service

Title: Farmers Market Promotion Program (FMPP).

OMB Control Number: 0581-0235.

Summary of Collection: The purposes of the Farmers Market Promotion Program (FMPP) are to increase domestic consumption of agricultural commodities by improving and expanding, assisting in the improvement and expansion, and to develop or aid in the development of new domestic farmers' markets, roadside stands, community-supported agriculture programs, and other direct producer-to-consumer infrastructure. The Farmer-to-Consumer Marketing Act of 1976 (Act) directs USDA to encourage the direct marketing of agricultural commodities from farmers to consumers, and to promote the development and expansion of direct marketing of agricultural commodities from farmers to consumers. The recently authorized Farmer's Market Promotion Program (FMPP) (7 U.S.C. 3005), section 6 of 7 U.S.C. 3004 directs the Secretary of Agriculture to “carry out a program to make grants to eligible entities for projects to establish, expand, and promote farmers' markets.”

Need and Use of the Information: Grant application information will establish eligibility, requirements, review and approval process and grant administration procedures for the FMPP.

Description of Respondents: State, Local or Tribal Government.

Number of Respondents: 415.

Frequency of Responses: Reporting: One time.

Total Burden Hours: 3,208.

Charlene Parker,
Departmental Information Collection Clearance Officer.

[FR Doc. E6-8971 Filed 6-8-06; 8:45 am]

BILLING CODE 3410-02-P